DEPARTMENT OF HEALTH AND HUMAN SERVICES

[Document Identifier: OS-0990-New; 60-day Notice]

Agency Information Collection Request; 60-Day Public Comment Request

AGENCY: Office of the Secretary, HHS.

In compliance with the requirement of section 3506(c)(2)(A) of the Paperwork Reduction Act of 1995, the Office of the Secretary (OS), Department of Health and Human Services, is publishing the following summary of a proposed information collection request for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

To obtain copies of the supporting statement and any related forms for the proposed paperwork collections referenced above, e-mail your request, including your address, phone number, OMB number, and OS document identifier, to Sherette.funncoleman@hhs.gov, or call the Reports Clearance Office on (202) 690-6162. Written comments and recommendations for the proposed information collections must be directed to the OS Paperwork Clearance Officer at the above email address within 60 days.

Proposed Project: Provide Services for the Dissemination of CER to Patients and Providers To Increase Adoption—OMB No. 0990-New-Office Within OS—Assistant Secretary for Planning and Evaluation (ASPE).

Abstract:

This research leverages best practices in behavior change, interaction design, and service innovation to increase the understanding and adoption of Comparative Effectiveness Research (CER) information by physicians and patients. By truly understanding the desires, behaviors and attitudes of patients and care providers across various segments, this project can significantly improve the dissemination, translation, and adoption of evidence-based, outcomes-oriented CER findings.

Comparative Effectiveness Research (CER) aims to provide patients and their doctors with the best available evidence that has been gathered from scientific research to make effective healthcare decisions. CER provides the latest thinking and recommendations on the risks and benefits of treatment and diagnostics as well as the confidence of those recommendations. In addition, it addresses individual patient factors such as quality of life and lifestyle that are included when making decisions about medical options. Widespread adoption of CER would lead to better outcomes for medical treatment and, in some cases, reduced cost.

The purpose of this project is “to strengthen the link between evidence production and strategies for conveying this information in ways that encourage evidence-based behavior change among providers and patients. The central question is how best to get CER information to physicians and patients in a way they understand. This task is considered critical to capitalizing on the Department's CER investment.” This will be a one year generic clearance request.

Estimated Annualized Burden Table
Type of respondent | Form name | Number of respondents | Number of responses per respondent | Average burden per response (in hours) | Total burden hours
Practice | Form A: Demographics for target population and colon cancer screening rates | 10 | 2 | 4 | 80
Healthcare Providers (Physicians, Nurse Practitioners, Physician Assistants and Nurses) | Form B: Tallies when use dashboard and/or show Web-based tool to patient in office | 40 | 563 | 1/60 | 375
Individual/patients | Form C: Experience Survey on web-based tool | 4750 | 1 | 3/60 | 238
Healthcare Providers (Physicians, Nurse Practitioners, Physician Assistants, Nurses) | Form D: Experience Survey | 40 | 4 | 1/60 | 3
Healthcare Providers (Physicians, Nurse Practitioners, Physician Assistants, Nurses) | Discussion Group | 32 | 2 | 2 | 128
Individual/patients | Discussion Group | 48 | 2 | 2 | 192
Total |  |  |  |  | 1016

Seleda Perryman,
Office of the Secretary, Paperwork Reduction Act Clearance Officer.

[FR Doc. 2011-4113 Filed 2-23-11; 8:45 am]

BILLING CODE P